DEPARTMENT OF LABOR

Occupational Safety and Health Administration

29 CFR Part 1926

Safety Standards for Steel Erection

AGENCY: Occupational Safety and Health Administration, Labor.

ACTION: Final rule; technical amendment.

SUMMARY: This technical amendment adds a nonmandatory note to the OSHA standards governing steel erection. The note provides information regarding existing Federal Highway Administration regulations that may apply to employers engaged in activities covered by OSHA's steel erection standards.

DATES: Effective date: May 17, 2010.

FOR FURTHER INFORMATION CONTACT: General information and press inquiries: Ms. Jennifer Ashley, Office of Communications, Room N-3647, OSHA, U.S. Department of Labor, 200 Constitution Avenue, NW., Washington, DC 20210; telephone (202) 693-1999.

Technical inquiries: Contact Mr. Levon Schlichter, Directorate of Construction, Room N-3468, OSHA, U.S. Department of Labor, 200 Constitution Avenue, NW., Washington, DC 20210; telephone (202) 693-2020 or fax (202) 693-1689.

Electronic copies of this Federal Register notice: Go to OSHA's Web site (http://www.osha.gov), and select “Federal Register,” “Date of Publication,” and then “2010.”

SUPPLEMENTARY INFORMATION: Background. On May 15, 2004, a fatal highway accident occurred on an interstate highway in Colorado as a passenger vehicle passed under an overpass that was being widened. The bracing used to temporarily support a partially installed steel girder on the overpass collapsed, causing the girder to fall to the highway below, shearing off the top of the vehicle and killing the three occupants inside. The National Transportation Safety Board (NTSB) subsequently investigated the accident and determined that the probable cause was insufficient design and installation of the girder's temporary bracing system. NTSB also found that a Registered Engineer did not approve the bracing-system design, which violates Federal Highway Administration (FHWA) regulations (See discussion in the following paragraph).¹

¹ The NTSB published the findings of this investigation in NTSB Safety Recommendation H-06-23, June 29, 2006; see “Technical Inquiries” mentioned earlier to obtain a copy of this document.

FHWA regulations generally require employers involved in National Highway System construction projects to comply with a number of standards, policies, and standard specifications published by the American Association of State Highway and Transportation Officials (“AASHTO”), among other organizations (See 23 CFR 625.3, 625.4). FHWA also encourages compliance with AASHTO Specifications that the FHWA regulations do not currently incorporate by reference. (See http://www.fhwa.dot.gov/bridge/lrfd/index.htm.)

For projects involving bridge construction (e.g., temporary bracing systems), the FHWA regulations incorporate by reference AASHTO's Standard Specifications for Highway Bridges, 15th edition, 1992 (See 23 CFR 625.4). The 1992 Specifications provide that a Registered Engineer must prepare and seal working drawings for falsework in many cases.

OSHA believes that knowledge of these requirements will enhance the safety of employees operating on or near structural steel elements used in highway construction, including bridges and other structures. Therefore, OSHA is adding a note to 29 CFR 1926.754(a) to inform construction employers of the FHWA requirements.

Public participation. OSHA determined that this technical amendment is not subject to the procedures for public notice and comment specified by Section 4 of the Administrative Procedures Act (5 U.S.C. 553), Section 6(b) of the Occupational Safety and Health Act of 1970 (29 U.S.C. 655(b)), and 29 CFR 1911.5. This technical amendment of 29 CFR 1926.754(a) merely notifies the regulated community of existing Federal regulations; it is nonmandatory and disseminated for informational purposes only, and does not increase regulatory burden. Therefore, this technical amendment does not affect or change any existing rights or obligations, and no member of the regulated community is likely to object to it. In conclusion, OSHA finds good cause that the opportunity for public comment is unnecessary within the meaning of 5 U.S.C. 553(b)(3)(B), 29 U.S.C. 655(b), and 29 CFR 1911.5.

List of Subjects in 29 CFR Part 1926

Structural steel erection, Construction industry, Construction safety, Occupational Safety and Health Administration, Occupational safety and health.

Authority and Signature

This document was prepared under the authority of David Michaels, PhD, MPH, Assistant Secretary of Labor for Occupational Safety and Health, U.S. Department of Labor, 200 Constitution Avenue, NW., Washington, DC 20210, pursuant to Sections 6(b) of the Occupational Safety and Health Act of 1970 (29 U.S.C. 655), Secretary of Labor's Order 5-2007 (72 FR 31160), and 29 CFR part 1911.

Signed at Washington, DC, on May 4, 2010.
David Michaels,
Assistant Secretary of Labor for Occupational Safety and Health.

For the reasons set forth above in the preamble, OSHA is amending 29 CFR part 1926 as follows:

PART 1926—[AMENDED]

Subpart R—[Amended]

1. The authority citation for subpart R is revised to read as follows:

Authority: Sec. 107, Contract Work Hours and Safety Standards Act (Construction Safety Act) (40 U.S.C. 333); Secs. 4, 6, and 8, Occupational Safety and Health Act of 1970 (29 U.S.C. 653, 655, 657); Secretary of Labor's Order Nos. 3-2000 (65 FR 50017), 5-2002 (67 FR 65008), and 5-2007 (72 FR 31160); and 29 CFR part 1911.

2. Amend § 1926.754 by adding a note after paragraph (a) to read as follows:

§ 1926.754 Structural steel assembly.

(a) * * *

Note to paragraph (a): Federal Highway Administration (FHWA) regulations incorporate by reference a number of standards, policies, and standard specifications published by the American Association of State Highway and Transportation Officials (AASHTO) and other organizations. (See 23 CFR 625.4). Many of these incorporated provisions may be relevant to maintaining structural stability during the erection process. For instance, as of May 17, 2010, in many cases FHWA requires a Registered Engineer to prepare and seal working drawings for falsework used in highway bridge construction. (See AASHTO Specifications for Highway Bridges, Div. II, § 3.2.1, 15th edition, 1992, which FHWA incorporates by reference in 23 CFR 625.4). FHWA also encourages compliance with AASHTO Specifications that the FHWA regulations do not currently incorporate by reference. (See http://www.fhwa.dot.gov/bridge/lrfd/index.htm.)

* * * * *

[FR Doc. 2010-10983 Filed 5-14-10; 8:45 am]

BILLING CODE 4510-26-P